DEPARTMENT OF COMMERCE

Bureau of Industry and Security

Emerging Technology and Research Advisory Committee; Notice of Open Meeting

The Emerging Technology and Research Advisory Committee (ETRAC) will meet on April 26, 2010, 10 a.m., Room 3884, and on April 27, 2010, 8:30 a.m., Room 6087B, both meetings will be held at the Herbert C. Hoover Building, 14th Street between Pennsylvania and Constitution Avenues, NW., Washington, DC. The Committee advises the Office of the Assistant Secretary for Export Administration on emerging technology and research activities, including those related to deemed exports.

Agenda

Monday, April 26

Open Session

1. Opening Remarks.

2. Bureau of Industry and Security Q&A on Emerging Technology Tasking.

3. Development of Guiding Principles Document.

4. Emerging Technologies Forecasting and Discussion.

5. Emerging Technologies Analysis Process by NAS and Discussion.

6. Emerging Technologies Analysis Portal and Discussion.

Tuesday, April 27

Open Session

1. First Thoughts on Emerging Technologies Analysis.

2. ETRAC Panel on Emerging Technologies.

3. History of the Laser.

4. Technology Risk Analysis.

The open session will be accessible via teleconference to 20 participants on a first come, first serve basis. To join the conference, submit inquiries to Ms. Yvette Springer at Yspringer@bis.doc.gov no later than April 19, 2010.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: April 6, 2010.
Yvette Springer,
Committee Liaison Officer.

[FR Doc. 2010-8297 Filed 4-9-10; 8:45 am]

BILLING CODE 3510-JT-P